DEPARTMENT OF ENERGY

[Certification Notice—205]

Office of Fossil Energy; Notice of Filings of Coal Capability Under the Powerplant and Industrial Fuel Act

AGENCY: Office of Fossil Energy, Department of Energy.

ACTION: Notice of Filings.

SUMMARY: The owners/operators of 30 baseload electric powerplants have submitted coal capability self-certifications pursuant to section 201 of the Powerplant and Industrial Fuel Use Act of 1978, as amended, in accordance with 10 CFR 501.60, 61.

ADDRESSES: Copies of self-certification filings are available for public inspection, upon request, in the Office of Coal & Power Import/Export, Fossil Energy, Room 4G-039, FE-27, Forrestal Building, 1000 Independence Avenue, SW., Washington, DC 20585.

FOR FURTHER INFORMATION CONTACT: Ellen Russell at (202) 586-9624

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load electric powerplant, that such powerplant has the capability to use coal or another alternate fuel. Such certification establishes compliance with section 201(a) as of the date filed with the Department of Energy (DOE). The Secretary is required to publish a notice in the Federal Register that a certification has been filed. The following owners/operators of proposed new baseload electric powerplants have filed self-certifications pursuant to section 201(d) and in accordance with DOE regulations in 10 CFR 501.60, 61.

Owner/operator | Capacity | Plant location | In-service date
Panda Culloden Power, LP |  | Culloden, WV | August 2003.
Corpus Christi Cogen, LP | 708 MW | Corpus Christi, TX | May 2002.
Washington Parish Energy Center, LLC | 600 MW | Bogalusa, LA | January 2003.
Elwood Energy II, LLC | 300 MW | Elwood, IL | May 2001.
Elwood Energy III, LLC | 450 MW | Elwood, IL | May 2001.
CalPeak Power-Vaca Dixon, Inc. | 49.5 MW | Solano County, CA | October 2001.
CalPeak Power-Panoche, LLC | 49.5 MW | Fresno County, CA | September 2001.
CalPeak Power-Midway, LLC | 49.5 MW | San Diego County, CA | September 2001.
CalPeak Power-Border, LLC | 49.5 MW | San Diego County, CA | September 2001.
CalPeak Power-Mission, LLC | 49.5 MW | San Diego County, CA | December 2001.
CalPeak Power-ElCajon, LLC | 49.5 MW | San Diego County, CA | December 2001.
CPV Cana, Ltd. | 250 MW | St. Lucie County, FL | 3rd quarter 2004.
PSEG Lawrenceburg Energy Company, LLC | 1,150 MW | Lawrenceburg, IN | March 2003.
Kiowa Power Partners, Inc. | 1,250 MW | Pittsburgh County, PA | July 2003.
Fremont Energy Center, Inc. | 700 MW | Fremont, OH | June 2003.
Calhoun Power Co., LLC | 600 MW | Anniston, AL | June 2003.
West Valley Generation, LLC | 160 MW | West Valley City, UT | October 2001.
Plains Ends, LLC | 114 MW | Golden, CO | April 2002.
Conectiv Bethlehem, Inc. | 1,100 MW | Bethlehem, PA | Fall 2003.
Pastoria Energy Facility, LLC | 750 MW | Kern County, CA | June 2002.
Astoria Energy, LLC | 1,000 MW | Queens, NY | Spring 2004.
Duke Energy Hanging Rock, LLC | 1,240 MW | Hamilton Twnsp, OH | May 2003.
Wellhead Power Panoche, LLC | 49.9 MW | Firegaugh, CA | September 2001.
Wellhead Power Gated, LLC | 49.9 MW | Huron, CA | October 2001.
Griffith Energy, LLC | 600 MW | Kingsman, AZ | October 2001.
CPV Terrapin, LLC | 800 MW | Savannah, GA | 4th quarter 2004.
Front Range Power Co. | 480 MW | Colorado Springs, CO | May 2003.
Lower Mount Bethel Energy, LLC | 600 MW | Bangor, PA | August 2003.
Panda Tallmadge Power, LP | 1,100 MW | Ottawa County, MI | December 2003.
Duke Energy Stephens, LLC | 620 MW | Duncan, OK | June 2003.

Issued in Washington, DC, on January 31, 2002.
Anthony J. Como,
Deputy Director, Electric Power Regulation, Office of Coal & Power Import/Export, Office of Coal & Power Systems, Office of Fossil Energy.

[FR Doc. 02-3089 Filed 2-7-02; 8:45 am]

BILLING CODE 6450-01-P